DEPARTMENT OF AGRICULTURE

Agricultural Marketing Service

[Doc. # TM-03-12]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension and revision of a currently approved information collection for the Farmers Market Questionnaire.

DATES: Comments on this notice must be received by December 22, 2003 to be assured of consideration.

FOR FURTHER INFORMATION CONTACT: Contact or send comments to Ed Ragland, Marketing Service Branch, Transportation and Marketing, Agricultural Marketing Service, U.S. Department of Agriculture, 1400 Independence Ave., SW., Room 2646, South Building, Washington DC 20250-0269; (202) 720-8317 and Fax (202) 690-0031.

SUPPLEMENTARY INFORMATION: Title: Farmers Market Questionnaire.

OMB Number: 0581-0169.

Expiration Date of Approval: March 31, 2004.

Type of Request: Revision of a currently approved information collection.

Abstract: Under the Agricultural Marketing Act of 1946, as amended (7 U.S.C. 1621 et seq.), the Agricultural Marketing Service (AMS) is responsible for collecting data to provide market access for small and medium sized farmers. One of the elements of this function is to collect data on farmers markets throughout the country and publish this information. This information is critical to State and local governments ability to make decisions on the formation and management of local farmers markets. States and localities need this information not only to support small and medium sized farmers, but also to make decisions concerning rural business activities. Information will be collected on the size and growth of markets, consumers and farmers served, products sold, sales, days of operation , and management structure. Information will be collected every two years on the size and growth of farmers markets to monitor how this marketing method changes over time and the impact farmers markets have on the farming community nationwide.

Estimate of Burden: Public reporting burden for this collection of information is estimated to average .25 hours per response.

Respondents: Farmers market managers.

Estimated Number of Respondents: 3,100.

Estimated Total Annual Responses: 1,550.

Estimated Number of Responses per Respondent: .5.

Estimated Total Annual Burden on Respondents: 388 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Ed Ragland, Marketing Services Branch, Transportation and Marketing, Agricultural Marketing Service, U.S. Department of Agriculture, 1400 Independence Ave., SW., Room 2646, South Building, Washington DC 20250-0269. All comments received will be available for public inspection during regular business hours at the same address.

All responses to this notice will be summarized and included in the request for OMB approval. All comments will become a matter of public record.

AMS is committed to implementation of the Government Paperwork Elimination Act, which provides for the use of information resources to improve the efficiency and effectiveness of government operations, including providing the public with the option of submitting information or transacting business electronically to the extent possible.

Dated: October 16, 2003.
Kenneth C. Clayton,
Associate Administrator, Agricultural Marketing Service.

[FR Doc. 03-26714 Filed 10-22-03; 8:45 am]

BILLING CODE 3410-02-P